FEDERAL HOUSING FINANCE BOARD

[No. 2002-N-1]

Notice of Availability of the Federal Housing Finance Board Information Quality Guidelines

AGENCY: Federal Housing Finance Board.

ACTION: Notice.

SUMMARY: Notice is hereby given that the Federal Housing Finance Board (Finance Board) has made available its Information Quality Guidelines pursuant to the requirements of the Office of Management and Budget's (OMB's) Guidelines for Ensuring and Maximizing the Quality, Objectivity, Utility and Integrity of Information Disseminated by Federal Agencies, January 3, 2002.

DATES: Comments on the Finance Board's Information Quality Guidelines will be accepted on an ongoing basis.

ADDRESSES: Comments should be addressed to the Secretary to the Board, Federal Housing Finance Board, using the “Feedback” button on the Finance Board Web site, or by regular mail to 1777 F St., NW., Washington, DC 20006.

FOR FURTHER INFORMATION CONTACT: Andy Taylor, Acting Chief Information Officer, (202) 408-2830; or Jennifer R. Salamon, Information Technology Program Analyst, (202) 408-2974; Federal Housing Finance Board, 1777 F Street, NW., Washington, DC 20006.

SUPPLEMENTARY INFORMATION: Section 515 of the Treasury and General Government Appropriations Act for Fiscal Year 2001 (Pub. L.106-554) directs OMB to issue government-wide guidelines that “provide policy and procedural guidance to Federal agencies for ensuring and maximizing the quality, objectivity, utility and integrity of information (including statistical information) disseminated by Federal agencies.” The OMB guidelines require each agency to prepare a draft report providing the agency's information quality guidelines. Each agency further is required to publish a notice of availability of this draft report in the Federal Register and to post this report on its Web site by April 1, 2002, to provide an opportunity for public comment. The Finance Board will post its draft Information Quality Guidelines on its Web site at www.fhfb.gov and encourages public comment on the report.

Dated: March 22, 2002.
James L. Bothwell,
Managing Director.

[FR Doc. 02-7530 Filed 3-28-02; 8:45 am]

BILLING CODE 6725-01-P